DEPARTMENT OF THE INTERIOR

National Park Service

[NPS-WASO-NAGPRA-NPS0026176; PPWOCRADN0-PCU00RP14.R50000]

Notice of Inventory Completion: The University of Oregon Museum of Natural and Cultural History, Eugene, OR

AGENCY: National Park Service, Interior.

ACTION: Notice.

SUMMARY: The University of Oregon Museum of Natural and Cultural History has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Oregon Museum of Natural and Cultural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Oregon Museum of Natural and Cultural History at the address in this notice by October 10, 2018.

ADDRESSES: Dr. Pamela Endzweig, Director of Collections, Museum of Natural and Cultural History, 1224 University of Oregon, Eugene, OR 97403-1224, telephone (541) 346-5120, email endzweig@uoregon.edu.

SUPPLEMENTARY INFORMATION: Notice is here given in accordance with the Native American Graves Protection and Repatriation Act (NAGPRA), 25 U.S.C. 3003, of the completion of an inventory of human remains under the control of the University of Oregon Museum of Natural and Cultural History, Eugene, OR. The human remains were removed from a location northwest of Nixon, Washoe County, NV.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Oregon Museum of Natural and Cultural History professional staff in consultation with representatives of the Pyramid Lake Paiute Tribe of the Pyramid Lake Reservation, Nevada.

History and Description of the Remains

In 1950, human remains representing one individual were removed from an eroding area along Route 33, about one mile south of the extreme end of Pyramid Lake, Washoe County, NV. In 1950 the human remains were donated to the museum by the private party who initially recovered them. The human remains (cat. #11-257) represent a single adult male. No known individuals were identified. No associated funerary objects are present.

Historical documents, ethnographic sources, and oral history indicate that the Northern Paiute have occupied the Pyramid Lake region since precontact times. Based on skeletal evidence, the remains were determined to be of Native American ancestry and Northern Paiute. The Northern Paiute are represented today by the Pyramid Lake Paiute Tribe of the Pyramid Lake Reservation, Nevada.

Determinations Made by the University of Oregon Museum of Natural and Cultural History

Officials of the University of Oregon Museum of Natural and Cultural History have determined that:

• Pursuant to 25 U.S.C. 3001(9), the human remains described in this notice represent the physical remains of one individual of Native American ancestry.

• Pursuant to 25 U.S.C. 3001(2), there is a relationship of shared group identity that can be reasonably traced between the Native American human remains and the Pyramid Lake Paiute Tribe of the Pyramid Lake Reservation, Nevada.

Additional Requestors and Disposition

Lineal descendants or representatives of any Indian Tribe or Native Hawaiian organization not identified in this notice that wish to request transfer of control of these human remains should submit a written request with information in support of the request to Dr. Pamela Endzweig, Director of Collections, Museum of Natural and Cultural History, 1224 University of Oregon, Eugene, OR 97403-1224, telephone (541) 346-5120, email endzweig@uoregon.edu, by October 10, 2018. After that date, if no additional requestors have come forward, transfer of control of the human remains to Pyramid Lake Paiute Tribe of the Pyramid Lake Reservation, Nevada, may proceed.

The University of Oregon Museum of Natural and Cultural History is responsible for notifying the Pyramid Lake Paiute Tribe of the Pyramid Lake Reservation, Nevada, that this notice has been published.

Dated: August 3, 2018.
Melanie O'Brien,
Manager, National NAGPRA Program.

[FR Doc. 2018-19526 Filed 9-7-18; 8:45 am]

BILLING CODE 4312-52-P